DEPARTMENT OF THE INTERIOR

Bureau of Reclamation

Upper Truckee River Restoration and Golf Course Relocation Project, El Dorado County, CA

AGENCY: Bureau of Reclamation, Interior.

ACTION: Notice of intent to prepare an environmental impact statement/environmental impact statement/environmental impact report (EIS/EIS/EIR) and notice of scoping meetings.

SUMMARY: Pursuant to section 102(2)(c) of the National Environmental Policy Act (NEPA), the Tahoe Regional Planning Agency (TRPA) Compact and Chapter 5 of the TRPA Code of Ordinances, and the California Environmental Quality Act (CEQA), the Department of the Interior, Bureau of Reclamation (Reclamation), the TRPA, and the California Department of Parks and Recreation (State Parks) intend to prepare a joint EIS/EIS/EIR. The EIS/EIS/EIR would evaluate a restoration project along the reach of the Upper Truckee River that extends from its entry point at the southern boundary of Washoe Meadows State Park (SP) to that point just west of U.S. Highway 50 (U.S. 50) where the river exits Lake Valley State Recreation Area (SRA).

Two public scoping meetings will be held to solicit comments from interested parties to assist in determining the scope of the environmental analysis, including the alternatives to be addressed, and to identify the significant environmental issues related to the proposed action.

DATES: The public scoping meeting dates are:

• Tuesday, September 26, 2006, 12 to 2 p.m., U.S. Forest Service (USFS) Lake Tahoe Basin Management Unit Offices in South Lake Tahoe, California.

• Tuesday, September 26, 2006, 6 to 8 p.m., USFS Lake Tahoe Basin Management Unit Offices in South Lake Tahoe, California.

In addition, the proposed project will be an agenda item at the following TRPA meetings:

• Wednesday, September 13, 2006, TRPA Advisory Planning Commission Meeting, TRPA's Governing Board Room in Stateline, Nevada (See agenda at http://www.trpa.org/default.aspx?tabid=259).

• Wednesday, September 27, 2006, TRPA Governing Board Meeting, North Tahoe Conference Center in Kings Beach, California. (See agenda at http://www.trpa.org/default.aspx?tabid=258).

All comments must be received by October 6, 2006.

ADDRESSES: The scoping meetings will be held at:

• USFS Lake Tahoe Basin Management Unit Offices, 35 College Drive, South Lake Tahoe, CA 96150

• Governing Board Room, 128 Market Street, Stateline, NV 89449

• North Tahoe Conference Center, 8318 North Lake Tahoe Boulevard, Kings Beach, CA 96143

Written comments on the scope of the environmental document, alternatives, and impacts to be considered should be mailed to Mr. Paul Nielsen, Project Manager, Tahoe Regional Planning Agency, P.O. Box 5310, Stateline, NV 89449. If you would like to be included on the EIS/EIS/EIR mailing list, please contact Ms. Cyndie Walck by e-mail at utproject@parks.ca.gov.

FOR FURTHER INFORMATION CONTACT: Ms. Myrnie Mayville, Environmental Specialist, Bureau of Reclamation, Mid-Pacific Region, 2800 Cottage Way, Room E-2606, Sacramento, CA, 95825-1898, (916) 978-5037; Mr. Paul Nielsen at the above address or (775) 588-4547 ext. 249, utproject@trpa.org; or Ms. Cyndie Walck, State of California Department of Parks and Recreation, Sierra District, P.O. Box 16, Tahoe City, CA, 96145, (530) 581-0925, utproject@parks.ca.gov.

SUPPLEMENTARY INFORMATION:

Background

The Upper Truckee River has been substantially altered by land practices since European settlement in the Lake Tahoe Basin. Comstock Era timber harvest activities increased erosion and flooding, and the transport of logs on the river required straightening of the channel. Farming and ranching practices further altered the channel and surrounding floodplain. In many locations, particularly in the lower portion of the reach downstream of Meyers, the channel was straightened and enlarged to protect or improve farming operations. The floodplain adjacent to the river was also recontoured during the construction of the Lake Tahoe Golf Course. The channel has incised and is experiencing high rates of bed and bank erosion. These historic modifications have degraded the ecologic and geomorphic processes and functions of the Upper Truckee River, contributing nutrient and suspended sediment discharge to Lake Tahoe and thus decreasing its clarity.

State Parks owns most of the land adjacent to the river reach downstream of the U.S. 50 bridge crossing at Meyers (near Chilcothe Street) to the point just upstream of the Elks Club near the intersection of Sawmill Road and U.S. 50. The State Parks property includes Washoe Meadows SP (State Park) and Lake Valley SRA (State Recreation Area), which includes Lake Tahoe Golf Course. While several other restoration projects are currently being planned for other reaches of the Upper Truckee River, the golf course reach was identified as the greatest opportunity for rehabilitation in the “Upper Truckee River Upper Reach Environmental Assessment Report” prepared for Reclamation and the Tahoe Resource Conservation District (TRCD), because it presents an opportunity for full restoration and there are less constraints on project planning and implementation due to public ownership by State Parks. The Environmental Assessment Report recommended four river treatment options including: (1) No action, (2) hard engineering or engineered stabilization, (3) creation of an inset floodplain and, (4) full geomorphic restoration. Three of the four alternatives to be analyzed in this EIS/EIS/EIR were derived from these original alternatives.

Goals and Objectives

The following goals and objectives were developed for the proposed action:

• Restore, to the extent feasible, natural geomorphic processes that sustain channel and floodplain morphology.

• Restore, to the extent feasible, ecosystem function in terms of ecological processes and aquatic and riparian habitat quality.

• Reduce erosion and improve water quality including reduction of the reach's contribution of suspended sediment and nutrient loading in the Upper Truckee River and Lake Tahoe.

• Minimize and mitigate short-term water quality and other environmental impacts during construction.

• Improve the golf course layout, infrastructure, and management to reduce the environmental impact of the golf course on the river's water quality and riparian habitat by integrating environmentally-sensitive design concepts.

• Maintain golf recreation opportunity and quality of play at a championship level.

• In the stream environment zone, reduce the area occupied by the golf course and improve the quality and increase the extent of riparian and meadow habitat.

• Maintain revenue level of the golf course.

• Avoid any increase in flood hazard to private property.

• Avoid any increase in safety hazards to golf course and other recreation users.

• Provide opportunities for informal, non-vehicular recreation.

Proposed Action and Alternatives

The proposed restoration project would require relocation of a portion of the Lake Tahoe Golf Course to allow for restoration of the river, reduce the area of stream environment zone occupied by the golf course, and allow for establishment of a buffer area between the golf course and the river. The proposed action also includes realigning the boundaries of Washoe Meadows SP and Lake Valley SRA, so restored habitat areas are within the state park and the relocated golf course holes are located entirely within the state recreation area.

The following alternatives will be considered at an equal level of detail in the EIS/EIS/EIR: Alternative 1, No Project/No Action; Alternative 2, Geomorphic Restoration with 18-hole Golf Course (Proposed Action); Alternative 3, Geomorphic Restoration with 9-hole Golf Course; and Alternative 4, Engineered Stabilization (In Place). With Alternative 1, existing conditions on the project site would be projected into the future. Alternative 2 would include restoring the channel to a natural balanced condition that improves geomorphic function and habitat, relocating a portion of the Lake Tahoe Golf Course holes to the west side of the river, reconfiguring and upgrading the remaining golf course holes on the east side of the river, restoring the riparian/floodplain area where the golf course holes would be removed from the river corridor, removing the golf course bridges that cross the Upper Truckee River and replacing them with a single bridge crossing near the existing Hole 6 Bridge, and revising park unit boundaries and “trading” land between Washoe Meadows SP and Lake Valley SRA by realigning their boundaries. Alternative 3 would include the same river treatment as with Alternative 2, reconfiguring and upgrading a 9-hole golf course on the east side of the river, and eliminating all golf course bridges. Alternative 4 would install bank protection (rip rap) and grade controls (rock weirs) that “lock” the river in its current alignment and elevation, incorporate bioengineering with native riparian vegetation, include selection of treatment areas to stabilize the river and minimize erosion, and leave the existing 18-hole golf course unchanged.

Potential Federal involvement may include the approval of the proposed action and partial funding of the river restoration component of the proposed action.

Additional Information

The environmental review will be conducted pursuant to NEPA, CEQA, TRPA's Compact and Chapter 5 of the TRPA Code of Ordinances, the Federal and state Endangered Species Acts, and other applicable laws, to analyze the potential environmental impacts of implementing a range of feasible alternatives. Public input on the range of alternatives proposed for detailed consideration will be sought through the public scoping process.

The EIS/EIS/EIR will assess potential impacts to any Indian Trust Assets (ITAs). Input about concerns or issues related to ITAs is requested from potentially affected Federally-recognized Indian Tribes and individual Indians.

Our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

Dated: August 29, 2006.
Michael Nepstad,
Acting Regional Environmental Officer, Mid-Pacific Region.

[FR Doc. E6-14625 Filed 9-1-06; 8:45 am]

BILLING CODE 4310-MN-P